DEPARTMENT OF ENERGY

Bonneville Power Administration

Plymouth Generating Facility

AGENCY: Bonneville Power Administration (BPA), Department of Energy (DOE).

ACTION: Notice of availability of Record of Decision (ROD).

SUMMARY: This notice announces the availability of the ROD to offer contract terms for interconnection of the Plymouth Generating Facility (PGF) into the Federal Columbia River Transmission System (FCRTS), based on the Plymouth Generating Facility Final Environmental Impact Statement (DOE/EIS-0345, June 2003). The interconnection would occur at BPA's proposed McNary-John Day 500-kilovolt (kV) transmission line at a point approximately 4.7 miles west of BPA's McNary Substation near the rural community of Plymouth in Benton County, Washington.

ADDRESS: Copies of the ROD and EIS may be obtained by calling BPA's toll-free document request line, 1-800-622-4520. The ROD and EIS Summary are also available on our Web site, http://www.efw.bpa.gov.

FOR FURTHER INFORMATION CONTACT: Dawn Boorse, Bonneville Power Administration—KEC-4, PO Box 3621, Portland, Oregon, 97208-3621; toll-free telephone number 1-800-282-3713; fax number 503-230-5699; or e-mail drboorse@bpa.gov.

SUPPLEMENTARY INFORMATION: The PGF, which has been proposed by Plymouth Energy, LLC (Plymouth Energy), involves construction and operation of a 307-megawatt (MW) natural gas-fired, combined-cycle power generation facility on a 44.5-acre site 2 miles west of Plymouth in Benton County, Washington. The facility would include a natural gas-fired combustion turbine generator and a steam turbine generator. Other major equipment would include a heat recovery steam generator, condensing/cooling system, water treatment system, water storage tanks and a switchyard that would include transformers and switching equipment.

BPA will enter into a Generation Interconnection Agreement with Plymouth Energy that provides for the interconnection of the PGF with the FCRTS and the operation of the PGF in the BPA Control Area. In addition, a Construction, Operations and Maintenance Agreement is necessary to provide for construction activities and continued operations and maintenance of facilities. The PGF interconnection would be a 0.6-mile 500-kV transmission line that would extend from the PGF north to an interconnection point on the proposed BPA 500-kV McNary-John Day transmission line. Four to six transmission towers, approximately 100 to 140 feet in height, would be installed to support the 0.6-mile line. The BPA right-of-way corridor currently includes two lines, one operating at 230-kV (known as the McNary-Horse Heaven 230-kV transmission line) and the second at 345-kV (known as the Ross-McNary 345-kV transmission line). The 500-kV McNary-John Day transmission line would therefore be the third line in this corridor. BPA completed its National Environmental Policy Act process for this proposed line in November 2002.

Issued in Portland, Oregon, on October 14, 2003.
Stephen J. Wright,
Administrator and Chief Executive Officer.

[FR Doc. 03-26651 Filed 10-21-03; 8:45 am]

BILLING CODE 6450-01-P